DEPARTMENT OF COMMERCE

National Oceanic and Atmospheric Administration

[I.D. 091200D]

Mid-Atlantic Fishery Management Council; Public Meeting

AGENCY: National Marine Fisheries Service (NMFS), National Oceanic and Atmospheric Administration (NOAA), Commerce.

ACTION: Notice of public meeting(s).

SUMMARY: The Mid-Atlantic Fishery Management Council’s Comprehensive Management Committee will hold a public meeting.

DATES: The meetings will be held on Monday, October 2, 2000, from 1 p.m. to 5 p.m., and Tuesday, October 3, 2000, from 8:30 a.m. until 3:30 p.m.

ADDRESSES:

This meeting will be held at the Sheraton Society Hill, One Dock Street, Philadelphia, PA; telephone: 215-238-6000.

Council Address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to discuss and identify possible sources of summer flounder commercial bycatch, i.e., who is responsible for the commercial bycatch, and when and where is it taken. Possible solutions to reduce the take of commercial bycatch, and where bycatch can not be avoided, to reduce the mortality of it will be discussed and developed for purposes of providing written recommendations to the Mid-Atlantic Fishery Management Council regarding the resolution of commercial bycatch in the summer flounder fishery.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Council Office (see ADDRESSES) at least 5 days prior to the meeting date.

Dated: September 12, 2000.
Bruce C. Morehead,
Acting Director, Office of Sustainable Fisheries, National Marine Fisheries Service.

[FR Doc. 00-23923 Filed 9-15-00 8:45 am]

BILLING CODE 3510-22-S